DEPARTMENT OF AGRICULTURE

Submission for OMB Review; Comment Request

May 24, 2005.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Food Stamp Redemption Certificate.

OMB Control Number: 0584-0085.

Summary of Collection: The Food Stamp Act of 1977, requires the Department of Agriculture to issue regulations that provide for the redemption of coupons accepted by retail food stores through approved wholesale food concerns or through insured financial institutions. The Food and Nutrition Service (FNS) will provide authorized retail stores and wholesale food concerns with redemption certificates. The Redemption Certificate and Wholesaler Redemption Certificate (RCs) are used by all authorized wholesalers or retailers when depositing food stamp coupons, and are processed by financial institutions when they are presented for credit or for cash. The issuance of food stamp benefits through the Electronic Benefit Transfer (EBT) system is replacing the issuance of food coupons.

Need and Use of the Information: The Food and Nutrition Service (FNS) will collect information on the verification of the amount of coupons forwarded to the bank for redemption. RCs are distributed to each authorized retailer or wholesaler by FNS for completion. FNS uses the deposit information from the RC to monitor (1) deposits by retailer and wholesale food concerns, and (2) for store monitoring and compliance purposes.

Description of Respondents: Business or other for-profit.

Number of Respondents: 9,503.

Frequency of Responses: Reporting: On occasion.

Total Burden Hours: 70.

Food and Nutrition Service

Title: Food Stamp Program Pre-Screening Tool.

OMB Control Number: 0584-0519.

Summary of Collection: Consistent with Section 5 of the Food Stamp Act of 1977, the Food and Nutrition Service (FNS) has initiated this program to enable potential Food Stamp Program applicants to assess their eligibility and the order of magnitude of the potential benefit they may qualify for. This Pre-Screening Tool also enables citizen advocacy groups to help constituents assess their benefit eligibility. This will also help the Food Stamp Program fulfill its role as a means-tested program in accordance with Section 5 of the Food Stamp Act and Part 273 of the Food Stamp Program regulations.

Need and Use of the Information: This Food Stamp Program Pre-Screening Tool will be accessible to the public as an online Web-based system. The user will be prompted to enter household size, income, expenses and resource information, and the tool will calculate and provide the user with an estimated range of benefits that the household may be eligible to receive. This information will help FNS determine the degree and type of system usage as well as potential areas for further study. The survey component will help FNS to determine the degree of usage, the need for modifying the tool and potential areas of further study.

Description of Respondents: Individuals or households; State, local, or tribal government; Not-for-profit institutions.

Number of Respondents: 264,000.

Frequency of Responses: Reporting: On occasion.

Total Burden Hours: 48,183.

Charlene Parker,
Departmental Information Collection Clearance Officer.

[FR Doc. 05-10741 Filed 5-27-05; 8:45 am]

BILLING CODE 3410-30-P